FEDERAL COMMUNICATIONS COMMISSION

Open Commission Meeting, Tuesday, April 17, 2018

April 10, 2018.

The Federal Communications Commission will hold an Open Meeting on the subjects listed below on Tuesday, April 17, 2018 which is scheduled to commence at 10:30 a.m. in Room TW-C305, at 445 12th Street SW, Washington, DC.

Item No. | Bureau | Subject
1 | Wireline Competition | Title: Protecting Against National Security Threats to the Communications Supply Chain Through FCC Programs (WC Docket No. 18-89).
|  | Summary: The Commission will consider a Notice of Proposed Rulemaking to ensure that universal service support is not used to purchase equipment or services from companies posing a national security threat to the integrity of communications networks or the communications supply chain.
2 | Wireless Tele-Communications | Title: Auctions of Upper Microwave Flexible Use Licenses for Next-Generation Wireless Services; Competitive Bidding Procedures for Auctions 101 (28 GHz) and 102 (24 GHz) (AU Docket No. 18-85).
|  | Summary: The Commission will consider a Public Notice that would seek comment on the procedures for the auctions of Upper Microwave Flexible Use Service licenses in the 28 GHz and 24 GHz bands.
3 | International | Title: Streamlining Licensing Procedures for Small Satellites (IB Docket No. 18-86).
|  | Summary: The Commission will consider a Notice of Proposed Rulemaking that proposes a new, alternative application process designed for a class of satellites referred to as “small satellites.”
4 | Wireline Competition | Title: Rural Call Completion (WC Docket No. 13-39).
|  | Summary: The Commission will consider a Report and Order and Further Notice of Proposed Rulemaking that will adopt new measures, and seek comment on others, to better tackle the problem of call completion and ensure that calls are completed to all Americans—including those in rural America.
5 | Wireline Competition | Title: Regulation of Business Data Services for Rate-of-Return Local Exchange Carriers (WC Docket No. 17-144).
|  | Summary: The Commission will consider a Notice of Proposed Rulemaking to enable model-based rate-of-return carriers to elect incentive regulation for their lower-speed business data services offerings, and to remove ex ante pricing regulation for packet-based and higher-speed circuit-based offerings.
6 | Media | Title: Cable Channel Lineup Requirements—Sections 76.1705 and 76.1700(a)(4) (MB Docket No. 18-92); Modernization of Media Regulation Initiative (MB Docket No. 17-105).
|  | Summary: The Commission will consider a Notice of Proposed Rulemaking proposing to eliminate the requirement that cable operators maintain a channel lineup at their local office and seeking comment on eliminating the requirement that certain cable operators make their channel lineup available via their online public inspection file.
7 | Media | Title: Amendment of Section 73.624(g) of the Commission's Rules Regarding Submission of FCC Form 2100, Schedule G, Used to Report TV Stations' Ancillary or Supplementary Services (MB Docket No. 17-264); Modernization of Media Regulation Initiative (MB Docket No. 17-105).
|  | Summary: The Commission will consider a Report and Order that would revise Section 73.624(g) of its rules to reduce broadcaster reporting obligations relating to the provision of ancillary or supplementary services.

* * * * *

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the internet from the FCC Live web page at www.fcc.gov/live.

For a fee this meeting can be viewed live over George Mason University's Capitol Connection. The Capitol Connection also will carry the meeting live via the internet. To purchase these services, call (703) 993-3100 or go to www.capitolconnection.gmu.edu.

Federal Communications Commission.
Katura Jackson,
Federal Register Liaison Officer, Office of the Secretary.

[FR Doc. 2018-08028 Filed 4-16-18; 8:45 am]

BILLING CODE 6712-01-P